BROADCASTING BOARD OF GOVERNORS

Sunshine Act Meeting

DATE AND TIME: Wednesday, September 11, 2019; 9:00 a.m.—5:00 p.m. EDT.

PLACE: U.S. Agency for Global Media, Cohen Building, Room 3321, 330 Independence Ave, SW, Washington, DC 20237.

SUBJECT: Notice of closed meeting of the Broadcasting Board of Governors.

SUMMARY: The U.S. Agency for Global Media's (USAGM) Board of Governors (Board) may conduct a special meeting closed to the public at any given time during the periods of time and location listed above to consider a personnel matter. This meeting is closed to the public pursuant to 5 U.S.C. 552b(c)(6) in order to protect the privacy interests of personnel involved in the actions under consideration. The Board also determined that shorter than usual notice for a meeting was required by official agency business and delayed availability of required information. In accordance with the Government in the Sunshine Act and BBG policies, any such meeting will be recorded and a transcript of the proceedings, subject to the redaction of information protected by 5 U.S.C. 552b(c)(6), will be made available to the public. The publicly-releasable transcript will be available for download at www.usagm.gov within 21 days of the date of the meeting.

Information regarding member votes to close the meeting and expected attendees can also be found on the Agency's public website.

CONTACT PERSON FOR MORE INFORMATION: Persons interested in obtaining more information should contact Oanh Tran at (202) 203-4545.

Oanh Tran,
Executive Director.

[FR Doc. 2019-19817 Filed 9-9-19; 4:15 pm]

BILLING CODE 8610-01-P